DEPARTMENT OF HOMELAND SECURITY

Coast Guard

33 CFR Part 117

[CGD01-05-102]

RIN 1625-AA09

Drawbridge Operation Regulations; Housatonic River, CT

AGENCY: Coast Guard, DHS.

ACTION: Notice of proposed rulemaking.

SUMMARY: The Coast Guard proposes to temporarily change the drawbridge operating regulations governing the operation of the U.S. 1 Bridge, mile 3.5, across the Housatonic River at Stratford, Connecticut. This notice of proposed rulemaking would allow the bridge owner to open only one of the two moveable spans for bridge openings at various times from January 2, 2006 through September 1, 2006, to facilitate bridge rehabilitation. Full bridge openings would be available at various times during the above time period after a seven-day notice is given by calling the number posted at the bridge.

DATES: Comments must reach the Coast Guard on or before December 23, 2005.

ADDRESSES: You may mail comments to Commander (obr), First Coast Guard District Bridge Branch, One South Street, Battery Park Building, New York, New York, 10004, or deliver them to the same address between 7 a.m. and 3 p.m., Monday through Friday, except, Federal holidays. The telephone number is (212) 668-7165. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except Federal holidays.

FOR FURTHER INFORMATION CONTACT: Ms. Judy Leung-Yee, Project Officer, First Coast Guard District, (212) 668-7195.

SUPPLEMENTARY INFORMATION:

Regulatory Information

Under 5 U.S.C. 553(b)(B), the Coast Guard finds that good cause exists for publishing an NPRM with a shortened comment period of 15 days and under 5 U.S.C. 553(d)(3), the Coast Guard also finds that good cause exists for making this rule effective less than 30 days after publication in the Federal Register.

The shortened comment period and making this rule effective in less than 30 days after publication in the Federal Register will allow this rule to become effective in time for the January 2, 2006, project start date. This action is necessary because the bridge owner did not become fully aware of the contractor's need to temporarily change the bridge regulations to perform the work until recently.

The Coast Guard believes a shortened comment period is reasonable because the bridge rehabilitation construction scheduled to begin on January 2, 2006, is necessary, vital, work that must to be performed as soon as possible in order to assure the safe continued reliable operation of the U.S. 1 Bridge.

Any delay in making this rule effective would not be in the best interest of public safety and the marine interests that use the Housatonic River because failure to start the rehabilitation repairs on time could result in an unscheduled bridge operation failure.

There is only one commercial facility operator that normally requires the bridge to open; however, that facility will not be in service during the time period this rule will be in effect. The recreational vessels that normally use this waterway are small enough in size that they can either pass under the spans without a bridge opening or safely pass through the bridge with a single span opening.

Request for Comments

We encourage you to participate in this rulemaking by submitting comments or related material. If you do so, please include your name and address, identify the docket number for this rulemaking (CGD01-05-102), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the First Coast Guard District, Bridge Branch, at the address under ADDRESSES explaining why one would be beneficial. If we determine that one would aid this rulemaking, we will hold one at a time and place announced by a later notice in the Federal Register.

Background and Purpose

The U.S. 1 Bridge, at mile 3.5, across the Housatonic River has a vertical clearance of 32 feet at mean high water and 37 feet at mean low water in the closed position. The existing operating regulations are listed at 33 CFR § 17.207(a).

The owner of the bridge, Connecticut Department of Transportation, requested a temporary change to the drawbridge operation regulations for the U.S. 1 Bridge to allow single span openings during the prosecution of major rehabilitation bridge repairs.

This proposed change would allow the U.S. 1 bridge to open only one of the two moveable spans for bridge openings.

The Coast Guard believes this rule is reasonable because the single span bridge openings should not preclude any vessel traffic from passing through the bridge.

Only one commercial facility operator is located upstream from the U.S. 1 Bridge. That facility will not be operating during the time period this temporary rule will be in effect.

The recreational vessels that normally transit through the U.S. 1 Bridge are small enough in size that they can either pass under the spans without a bridge opening or transit safely with a single span opening.

Discussion of Proposed Rule

This proposed change would amend 33 CFR 117.207 by suspending paragraph (a), which lists the U.S. 1 Bridge and adding a temporary paragraph (c) listing the temporary drawbridge operation schedule in effect from January 2, 2006, through September 1, 2006.

Under this temporary regulation the U.S. 1 Bridge shall continue to open on signal, except that, from 7 a.m. to 9 a.m., Monday through Friday, and 4 p.m. to 5:45 p.m., daily, the draw need not open for the passage of vessel traffic.

From January 2, 2006, through February 9, 2006, only one of the two moveable spans need open for the passage of vessel traffic. Two span bridge openings shall be provided after at least a seven-day advance notice is given by calling the number posted at the bridge.

From February 10, 2006, through April 1, 2006, only one of the two moveable spans need open for the passage of vessel traffic. No two span openings will be available.

From April 2, 2006, through April 16, 2006, the bridge shall open both moveable spans for the passage of vessel traffic.

From April 17, 2006, through May 26, 2006, only one of the two moveable spans need open for the passage of vessel traffic. No two span openings will be available.

From May 27, 2006, through May 29, 2006, the bridge shall open both moveable spans for the passage of vessel traffic.

From May 30, 2006, through June 30, 2006, only one of the two moveable spans need open for the passage of vessel traffic. Two span openings shall be provided after a seven-day advance notice is given by calling the number posted at the bridge.

From July 1, 2006, through July 4, 2006, the bridge shall open both moveable spans for the passage of vessel traffic.

From July 5, 2006, through September 1, 2006, only one of the two moveable spans need open for the passage of vessel traffic. Two span openings shall be provided after a seven-day advance notice is given by calling the number posted at the bridge.

Regulatory Evaluation

This proposed rule is not a “significant regulatory action” under section 3(f) of Executive Order 12866, Regulatory Planning and Review, and does not require an assessment of potential costs and benefits under 6(a)(3) of that Order. The Office of Management and Budget has not reviewed it under that Order. It is not “significant” under the regulatory policies and procedures of the Department of Homeland Security (DHS).

We expect the economic impact of this proposed rule to be so minimal that a full Regulatory Evaluation, under the regulatory policies and procedures of DHS is unnecessary.

This conclusion is based on the fact that the bridge will continue to open for vessel traffic with a single moveable span which is sufficient for the present needs of navigation.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under section 5 U.S.C. 605(b), that this proposed rule would not have a significant economic impact on a substantial number of small entities.

This conclusion is based on the fact that the bridge will continue to open for vessel traffic with a single span which is sufficient for the present needs of navigation.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact us in writing at, Commander (obr), First Coast Guard District, Bridge Branch, One South Street, New York, NY, 10004. The telephone number is (212) 668-7165. The Coast Guard will not retaliate against small entities that question or complain about this rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under E.O. 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that may disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e), of the Instruction, from further environment documentation because it has been determined that the promulgation of operating regulations or procedures for drawbridges are categorically excluded.

List of Subjects in 33 CFR Part 117

Bridges.

Regulations

For the reasons set out in the preamble, the Coast Guard proposes to amend 33 CFR part 117 as follows:

PART 117—DRAWBRIDGE OPERATION REGULATIONS

1. The authority citation for part 117 continues to read as follows:

Authority: 33 U.S.C. 499; 33 CFR 1.05-1(g); Department of Homeland Security Delegation No. 0170.1; section 117.255 also issued under the authority of Pub. L. 102-587, 106 Stat. 5039.

2. From January 2, 2006 through September 1, 2006, section 117.207 is amended by suspending paragraph (a) and adding a temporary paragraph (c) to read as follows:

§ 117.207 Housatonic River.

* * * * *

(c) The draw of the U.S. 1 Bridge, mile 3.5, at Stratford, shall operate as follows:

(1) The draw shall open on signal, except that, from 7 a.m. to 9 a.m., Monday through Friday, and 4 p.m. through 5:45 p.m., daily, the draw need not open for the passage of vessel traffic.

(2) From January 2, 2006 through March 31, 2006, from 8 p.m. to 4 a.m., the draw shall open on signal if at least a six-hour notice is given by calling the number posted at the bridge.

(3) From January 2, 2006 through February 9, 2006, May 30, 2006 through June 30, 2006, and July 5, 2006 through September 1, 2006, only one of the two moveable spans need open for the passage of vessel traffic. Two span bridge openings shall be provided if at least a seven-day notice is given by calling the number posted at the bridge, except as provided in (c)(1) and (c)(2) of this section.

(4) From February 10, 2006 through April 1, 2006, and April 17, 2006 through May 26, 2006, only one of the two moveable spans need open for the passage of vessel traffic, except as provided in (c)(1) and (c)(2) of this section. No two span openings need be provided.

(5) From April 2, 2006 through April 16, 2006, May 27, 2006 through May 29, 2006, and July 1, 2006 through July 4, 2006, both moveable spans shall open for the passage of vessel traffic, except as provided in (c)(1) and (c)(2) of this section.

* * * * *

Dated: November 29, 2005.
David P. Pekoske,
Rear Admiral, U.S. Coast Guard, Commander, First Coast Guard District.

[FR Doc. 05-23752 Filed 12-7-05; 8:45 am]

BILLING CODE 4910-15-P